SUSQUEHANNA RIVER BASIN COMMISSION

Actions Taken at March 13, 2020, Meeting

AGENCY: Susquehanna River Basin Commission.

ACTION: Notice.

SUMMARY: As part of its regular business meeting held on March 13, 2020, in Harrisburg, Pennsylvania, the Commission approved the applications of certain water resources projects, and took additional actions, as set forth in the Supplementary Information below.

DATES: March 16, 2020.

ADDRESSES: Susquehanna River Basin Commission, 4423 N Front Street, Harrisburg, PA 17110-1788.

FOR FURTHER INFORMATION CONTACT: Jason E. Oyler, General Counsel and Secretary, telephone: (717) 238-0423, ext. 1312, fax: (717) 238-2436; email: joyler@srbc.net. Regular mail inquiries may be sent to the above address. See also Commission website at www.srbc.net.

SUPPLEMENTARY INFORMATION: In addition to the actions taken on projects identified in the summary above and the listings below, the following items were also presented or acted upon at the business meeting: (1) Resolution 2020-01 adopting the Commission's Fiscal Year 2021 Budget Reconciliation; (2) ratification/approval of contracts/grants; (3) Resolution 2020-02 adopting Final Rulemaking regarding consumptive use mitigation and adopting Consumptive Use Mitigation Policy; (4) Resolution 2020-03 adopting Guidance For The Preparation Of A Metering Plan & A Groundwater Elevation Monitoring Plan For Withdrawals, Consumptive Uses And Diversions (“Metering Plan Guidance”); and (5) Regulatory Program projects.

Project Applications Approved

1. Project Sponsor and Facility: ARD Operating, LLC (Lycoming Creek), Lewis Township, Lycoming County, Pa. Application for renewal of surface water withdrawal of up to 1.340 mgd (peak day) (Docket No. 20160301).

2. Project Sponsor and Facility: EQT Production Company (Wilson Creek), Duncan Township, Tioga County, Pa. Application for renewal of surface water withdrawal of up to 0.720 mgd (peak day) (Docket No. 20160305).

3. Project Sponsor and Facility: New Holland Borough Authority, New Holland Borough, Lancaster County, Pa. Application for groundwater withdrawal of up to 0.860 mgd (30-day average) from Well 5.

4. Project Sponsor and Facility: SWN Production Company, LLC (Susquehanna River), Oakland Township, Susquehanna County, Pa. Application for renewal of surface water withdrawal of up to 3.000 mgd (peak day) (Docket No. 20160310).

5. Project Sponsor and Facility: SWN Production Company, LLC (Tunkhannock Creek), Lenox Township, Susquehanna County, Pa. Application for renewal of surface water withdrawal of up to 1.218 mgd (peak day) (Docket No. 20160311).

6.. Project Sponsor and Facility: Towanda Municipal Authority, Albany Township, Bradford County, Pa. Application for groundwater withdrawal of up to 0.551 mgd (30-day average) from the Eilenberger Spring.

7. Project Sponsor: York Haven Power Company, LLC. Project Facility: York Haven Hydroelectric Project, Londonderry Township, Dauphin County; Conoy Township, Lancaster County; and York Haven Borough and Newberry Township, York County, Pa. Application for approval of an existing hydroelectric facility.

Project Approved Involving a Diversion

1. Project Sponsor: Gas Field Specialists, Inc. Project Facility: Wayne Gravel Products Quarry, Ceres Township, McKean County, Pa. Application for renewal of an into-basin diversion from the Ohio River Basin of up to 1.170 mgd (peak day) (Docket No. 20160312).

Commission Initiated Project Approval Modifications

1. Project Sponsor and Facility: Susquehanna Valley Country Club, Monroe Township, Snyder County, Pa. Conforming the grandfathering amount with the forthcoming determination for a groundwater withdrawal up to 0.162 mgd (30-day average) from the Front Nine Well (Docket No. 20020814).

2. Project Sponsor and Facility: New Morgan Borough Utilities Authority, New Morgan Borough, Berks County, Pa. Modification to remove expired Well PW-3 and to recognize the interconnection with Caernarvon Township Authority. Well PW-3 automatically expired consistent with Condition 25 of the approval due to lack of commencement of withdrawal (Docket No. 20141207).

In addition, as a part of Resolution 2020-02, which was adopted, the Executive Director has the authority necessary to carry out the implementation of the final rulemaking and policy, including where necessary approving any Commission-initiated modifications to consumptive use approvals to modify the mitigation requirements for evaporative losses from ponds and other on-site structures that meet the mitigation standard in Policy No. 2020-01. As such, notice is hereby given that the Executive Director is initiating such modifications. A list of modifications under review by Commission staff and date for public comment on those modifications can be found at the Commission's website at www.srbc.net, https://www.srbc.net/about/meetings-events/meeting-comment/default.aspx?type=9&cat=29.

Authority: Pub.L. 91-575, 84 Stat. 1509 et seq., 18 CFR parts 806, 807, and 808.

Dated: March 16, 2020.
Jason E. Oyler,
General Counsel and Secretary to the Commission.

[FR Doc. 2020-05872 Filed 3-19-20; 8:45 am]

BILLING CODE 7040-01-P